AMTRAK REFORM COUNCIL

Notice of Meeting

AGENCY: Amtrak Reform Council.

ACTION: Notice of Special Public Outreach Hearing for the Mountain States and a Public Business Meeting.

SUMMARY: As provided in Section 203 of the Amtrak Reform and Accountability Act of 1997, the Amtrak Reform Council (ARC) gives notice of a special public outreach meeting of the Council with representatives from the Mountain States. At the Outreach Hearing, the Council has invited, among others, representatives from the states of Arizona, Colorado, Idaho, Kansas, Montana, Nevada, New Mexico, North Dakota, Utah, and Wyoming, and from Amtrak as well, to discuss all aspects of current and future intercity railroad passenger service. The Mountain States are served almost exclusively by the long-haul trains that Amtrak operates from the Midwest and Southeast Regions to the West Coast.

DATES: The Special Public Outreach Hearing will be held on Thursday, March 30, 2000 from 9:00 a.m. to 5:00 p.m. and the Business Meeting will be held on Friday, March 31, 2000 from 8:30 a.m. to 12:30 p.m. Both the Hearing and Business Meeting are opened to the general public.

ADDRESSES: Both the Outreach Hearing and Business Meeting will take place at the University of Denver, 2nd Floor-Ballroom, Driscoll Center, 2300 S. York Street, Denver, Colorado 80208. (The Driscoll Center is located North of the campus.) Persons in need of special arrangements should contact the person listed below.

FOR FURTHER INFORMATION CONTACT: Deirdre O'Sullivan, Amtrak Reform Council, Room 7105, JM-ARC, 400 Seventh Street, S.W., Washington, DC 20590, or by telephone at (202) 366-0591; FAX: 202-493-2061. You can also visit the ARC's website at www.amtrakreformcouncil.gov, for information regarding ARC's upcoming events, the agenda for upcoming events, the ARC's First Annual Report, information about the ARC Staff and the Council Members and much more.

SUPPLEMENTARY INFORMATION: The ARC was created by the Amtrak Reform and Accountability Act of 1997 (ARAA), as an independent commission, to evaluate Amtrak's performance and to make recommendations to Amtrak for achieving further cost containment, productivity improvements, and financial reforms. In addition, the ARAA requires that the ARC monitor cost savings resulting from work rules established under new agreements between Amtrak and its labor unions; that the ARC provide an annual report to Congress that includes an assessment of Amtrak's progress on the resolution of productivity issues; and that, after two years, the ARC has the authority to determine whether Amtrak can meet certain financial goals specified under the ARAA and, if not, to notify the President and the Congress.

The ARAA provides that the ARC consist of eleven members, including the Secretary of Transportation and ten others nominated by the President and Congressional leaders. Each member is to serve a five-year term.

Issued in Washington, DC, March 10, 2000.
Thomas A. Till,
Executive Director.

[FR Doc. 00-6415 Filed 3-14-00; 8:45 am]

BILLING CODE 4910-06-P